DEPARTMENT OF DEFENSE

Department of the Army

[Docket ID: USA-2017-HQ-0002]

Privacy Act of 1974; System of Records

AGENCY: Department of the Army, DoD.

ACTION: Notice to alter a System of Records.

SUMMARY: Pursuant to the Privacy Act of 1974 notice is hereby given that the Department of the Army proposes to alter a system of records, A0350-1b TRADOC, entitled “Army Career Tracker (ACT),” last published at 76 FR 26714 on May 9, 2011. The Army Career Tracker (ACT) exists to enable Soldiers and Army civilians world-wide with career development and transition resources. ACT provides users with a more efficient and effective way to monitor their career development while allowing leaders to track and advise subordinates on personalized leadership development. As a leader development tool, it integrates data on training, education, and experiential learning from a number of source systems into one personalized and easy-to-use interface. ACT allows supervisors to track and advise employees on their leadership development and allows career program managers the ability to reach their geographically dispersed careerists. The Total Army Sponsorship Program is also administered through ACT. The sponsorship program provides Soldiers and Army civilians and their families with resources to facilitate their transition and/or relocation between commands and duty assignments.

This alteration to the system of records notice incorporates the applicable DoD Routine Uses in the notice to provide clarity for the public. The categories of individuals has been updated to reflect the inclusion of Army Reserve, Guard, and Reserve Officer Training Corps personnel. The category of records was expanded to cover data that is collected and used in support of the Total Army Sponsorship Program. Further, the authorities were updated to cite the specific sections of the United States Code and identify the DoD issuances that implement the program. The purpose has been revised to clarify the use and description of these records. The systems that are data sources or interface with ACT have been denoted in the records source categories. Lastly, administrative corrections were made to the system location, retrievability, safeguards, system manager and address, notification and record access procedures, and contesting records procedures.

DATES: Comments will be accepted on or before February 23, 2017. This proposed action will be effective the date following the end of the comment period unless comments are received which result in a contrary determination.

ADDRESSES: You may submit comments, identified by docket number and title, by any of the following methods:

* Federal Rulemaking Portal: http://www.regulations.gov.

Follow the instructions for submitting comments.

* Mail: Department of Defense, Office of the Deputy Chief Management Officer, Directorate for Oversight and Compliance, Regulatory and Advisory Committee Division, 4800 Mark Center Drive, Mailbox #24, Suite 08D09B, Alexandria, VA 22350-1700.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Tracy Rogers, Department of the Army, Privacy Office, U.S. Army Records Management and Declassification Agency, 7701 Telegraph Road, Casey Building, Suite 144, Alexandria, VA 22325-3905 or by calling (703) 428-7499.

SUPPLEMENTARY INFORMATION: The Department of the Army's notices for system of records subject to the Privacy Act of 1974, (5 U.S.C. 552a), as amended, have been published in the Federal Register and are available from the address in FOR FURTHER INFORMATION CONTACT or from the Defense Privacy, Civil Liberties, and Transparency Division Web site http://dpcld.defense.gov/.

The proposed systems reports, as required by 5 U.S.C. 552a(r) of the Privacy Act, as amended, were submitted on January 5, 2017, to the House Committee on Oversight and Government Reform, the Senate Committee on Homeland Security and Governmental Affairs, and the Office of Management and Budget (OMB) pursuant to paragraph 4 of Appendix I to OMB Circular No. A-130, “Federal Agency Responsibilities for Maintaining Records About Individuals,” revised November 28, 2000 (December 12, 2000 65 FR 77677).

Dated: January 17, 2017.
Aaron Siegel,
Alternate OSD Federal Register Liaison Officer, Department of Defense.

A0350-1b TRADOC

System name:

Army Career Tracker (ACT) (May 9, 2011, 76 FR 26714)

Changes:

* * * * *

System location:

Delete entry and replace with “Army commands, installations, and activities. Official mailing addresses are published as an appendix to the Army's compilation of systems of records notices.”

Categories of individuals covered by the system:

Delete entry and replace with “Department of the Army military personnel (active duty, Army National Guard, and Army Reserve), Army Reserve Officers' Training Corps contracted cadets, and Army civilian employees.”

Categories of records in the system:

Delete entry and replace with “Demographic data to include name, grade/rank/series, Social Security Number (SSN); DoD ID Number; Army Knowledge Online User Identification; primary email address; personal and duty phone numbers; service component, branch, personnel classification, military status, military occupational specialty; and unit of assignment. Sponsorship data to include family members' name, age, gender, relationship, identification of exceptional family member, spouse's employment and driver's license information.

Course and training data to include credit hours accumulated; examination and course completion status; professional development model; assignment history; student academic status; curricula, course descriptions and schedules; graduation dates; and individual goals.”

Authority for maintenance of the system:

Delete entry and replace with “5 U.S.C. 4103, Establishment of training programs; 10 U.S.C. 3013, Secretary of the Army; Department of Defense Directive 1322.18, Military Training; Army Regulation (AR) 350-1, Army Training and Leader Development; AR 600-20, Army Command Policy; AR 600-8-8, The Total Army Sponsorship Program; AR 690-950, Career Management; and E.O. 9397 (SSN), as amended.”

Purpose(s):

Delete entry and replace with “Army Career Tracker (ACT) is a leadership development tool that integrates training and education into one personalized, easy-to-use Web site. ACT receives training, education, experiential learning, personnel, and biographical data from several Army information systems and presents a comprehensive and personalized view of Noncommissioned Officer, Officer, and Army civilian career history, course enrollment, course completion, course catalog, and professional development model information. Users can search multiple education and training resources, monitor their career development and receive personalized advice. The system allows civilian and military supervisors, and mentors to monitor the individual's goals and provide them developmental recommendations, notifications and career advice. Supervisors can view records for both their civilian and military employees.

ACT is also used to administer the Total Army Sponsorship Program which helps Soldiers, civilian employees, and families successfully relocate into and out of their commands. Soldiers in the ranks of private through colonel (excluding Soldiers arriving at Initial Military Training (IMT) and Soldiers making PCS moves to student detachments at long-term schools) and civilian employees through grade GS-15, undergoing a PCS move, are offered the opportunity to participate in the advance arrival sponsorship program.”

Routine uses of records maintained in the system, including categories of users and the purposes of such uses:

Delete entry and replace with “In addition to those disclosures generally permitted under 5 U.S.C. 552a(b) of the Privacy Act if 1974, as amended, the records contained herein may specifically be disclosed outside the DoD as a routine use pursuant to 5 U.S.C. 552a(b)(3) as follows:

Law Enforcement Routine Use: If a system of records maintained by a DoD Component to carry out its functions indicates a violation or potential violation of law, whether civil, criminal, or regulatory in nature, and whether arising by general statute or by regulation, rule, or order issued pursuant thereto, the relevant records in the system of records may be referred, as a routine use, to the agency concerned, whether federal, state, local, or foreign, charged with the responsibility of investigating or prosecuting such violation or charged with enforcing or implementing the statute, rule, regulation, or order issued pursuant thereto.

Congressional Inquiries Disclosure Routine Use: Disclosure from a system of records maintained by a DoD Component may be made to a congressional office from the record of an individual in response to an inquiry from the congressional office made at the request of that individual.

Disclosure to the Department of Justice for Litigation Routine Use: A record from a system of records maintained by a DoD Component may be disclosed as a routine use to any component of the Department of Justice for the purpose of representing the Department of Defense, or any officer, employee or member of the Department in pending or potential litigation to which the record is pertinent.

Data Breach Remediation Purposes Routine Use: A record from a system of records maintained by a Component may be disclosed to appropriate agencies, entities, and persons when (1) The Component suspects or has confirmed that the security or confidentiality of the information in the system of records has been compromised; (2) the Component has determined that as a result of the suspected or confirmed compromise there is a risk of harm to economic or property interests, identity theft or fraud, or harm to the security or integrity of this system or other systems or programs (whether maintained by the Component or another agency or entity) that rely upon the compromised information; and (3) the disclosure made to such agencies, entities, and persons is reasonably necessary to assist in connection with the Components efforts to respond to the suspected or confirmed compromise and prevent, minimize, or remedy such harm.”

* * * * *

Retrievability:

Delete entry and replace with “Individual's name, SSN, DoD ID Number, or Army Knowledge Online User Identification.”

Safeguards:

Delete entry and replace with “Access to the system is restricted to authorized personnel only with Army Knowledge Online authorization using sign-on and password, or a Common Access Card (CAC). Records are maintained within secured buildings in areas accessible only to persons having an official need-to-know and who are properly trained and screened.”

* * * * *

System manager(s) and address:

Delete entry and replace with “Commander, Headquarters, U.S. Army Training and Doctrine Command, Institute of Noncommissioned Officer Professional Development Office (ATCG-NCN), 950 Jefferson Ave., Fort Eustis, VA 23604-5704.”

Notification procedure:

Delete entry and replace with “Individuals seeking to determine whether information about themselves is contained in this system should address written inquiries to the Commander, Headquarters, U.S. Army Training and Doctrine Command, Institute of Noncommissioned Officer Professional Development Office (ATCG-NCN), 950 Jefferson Ave., Fort Eustis, VA 23604-5704.

Individuals should provide full name, SSN, military status, or other information verifiable from the record itself.

In addition, the requester must provide a notarized statement or an unsworn declaration made in accordance with 28 U.S.C. 1746, in the following format:

If executed outside the United States: `I declare (or certify, verify, or state) under penalty of perjury under the laws of the United States of America that the foregoing is true and correct. Executed on (date). (Signature).'

If executed within the United States, its territories, possessions, or commonwealths: `I declare (or certify, verify, or state) under penalty of perjury that the foregoing is true and correct. Executed on (date). (Signature)'.”

Record access procedures:

Delete entry and replace with “Individuals seeking access to information about themselves contained in this system should address written inquiries to the Commander, Headquarters, U.S. Army Training and Doctrine Command, Institute of Noncommissioned Officer Professional Development Office (ATCG-NCN), 950 Jefferson Ave, Fort Eustis, VA 23604-5704.

Individual should provide full name, SSN, military status, or other information verifiable from the record itself.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

Contesting record procedures:

Delete entry and replace with “The Army's rules for accessing records, contesting contents, and appealing initial agency determinations are contained in 32 CFR part 505, the Army Privacy Program, or may be obtained from the system manager.”

Record source categories:

Delete entry and replace with “Individual, DoD personnel (supervisors, mentors, training and human resources staff), Army Knowledge Online (AKO), Integrated Total Army Personnel Database (ITAPDB), Headquarters Army Civilian Personnel System (HQ ACPERS), Defense Civilian Personnel Data System for National Guard (NG-DCPDS), Reserve Component Management System (RCMS), Army Training Requirements & Resources System (ATRRS), Army Learning Management System (ALMS), GoArmyEd, Force Management System Web site (FMSWEB), Credentialing Opportunities On-Line (COOL), Partnership for Youth Success (PaYS), Soldier Fitness Training (SFT), and Comprehensive Soldier Fitness (CSF).”

* * * * *

[FR Doc. 2017-01477 Filed 1-23-17; 8:45 am]

BILLING CODE 5001-06-P